DEPARTMENT OF THE INTERIOR

Bureau of Land Management

[223 LLUT934000 L12200000.FV0000]

Notice of Intent Tto Establish Recreation Fees on Public Lands in the Price, Richfield, and Salt Lake Field Offices, Utah

AGENCY: Bureau of Land Management, Interior.

ACTION: Notice of intent.

SUMMARY: Pursuant to applicable provisions of the Federal Lands Recreation Enhancement Act (FLREA), the Bureau of Land Management (BLM) is posting this Notice of Intent for the Price and Richfield Field Offices to begin phasing in the collection of fees at 15 campgrounds, and for the Salt Lake Field Office to designate a special area with a permit system and to begin collecting fees for recreation uses within the special area.

DATES: Comments on the proposed fees must be received or postmarked by August 4, 2022 and must include the commenter's legible full name and address. Starting January 5, 2023, the BLM will have the option to initate the proposed fees, unless the BLM publishes a Federal Register notice to the contrary.

ADDRESSES: Copies of relevant supporting documents for this action may be found at https://www.blm.gov/programs/recreation/permits-and-fees/business-plans, or by contacting the BLM Utah State Office, Branch Chief for Outdoor and Heritage Resources, 440 West 200 South, Ste. 500, Salt Lake City, UT 84101.

FOR FURTHER INFORMATION CONTACT: Kelly Orr, Branch Chief for Outdoor and Heritage Resources, Utah State Office, email: korr@blm.gov; telephone: (801) 539-4225. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM Utah new fee sites and new special area with a new permit system and fee are listed below:

The Price Field Office will establish new expanded amenity recreation fees at New Joes, Cottonwood Canyon, Buckhorn Wash, The Wickiup, The Wedge, South Temple Wash, San Rafael Reef, Temple Mountain Townsite, Little Wild Horse, Sand Wash, Jurassic, and Millsite campgrounds. Fees for overnight use of individual campsites will be $15 per night and group sites will be $75 per night.

The Richfield Field Office will establish new expanded amenity recreation fees at Saul's Meadow, Beas Lewis Flat, and Summerville campgrounds. Fees for overnight use of individual campsites at Saul's Meadow will be $10 per night and group sites will be $65 per night. Fees for overnight use of campsites at Beas Lewis Flat and Summerville campgrounds will be $15 per night.

The Salt Lake Field Office will designate a new Special Area to be known as the Fivemile Pass Recreation Area, with an Individual Special Recreation Permit system and fee. The Fivemile Pass Recreation Area and surrounding vicinity is a popular off-highway vehicle and dispersed camping area. The daily permit fee will be $10 per primary vehicle, which includes overnight camping, and an annual pass fee will be $50 per primary vehicle. The nearby Knolls special area is managed for the same uses and already has approved an annual pass fee of $80 per primary vehicle. The Knolls pass can be purchased in either location and will serve as an annual pass for both locations, whereas the Fivemile Pass annual pass will cover only the Fivemile Pass Recreation Area.

The BLM is authorized to charge an “Expanded Amenity Recreation Fee” at developed campgrounds under 16 U.S.C. 6802 when certain amenities and services are provided. Section 6802 also authorizes the BLM to collect special recreation permit fees for specialized recreation uses of federal recreational lands and waters. Under 43 CFR 2930, the BLM may establish a Special Recreation Permit (SRP) and fee system for the use of special areas and establish special areas where the BLM determines that the resources require special management and control measures for their protection. SRPs for individual recreation use in a special area are referred to as “Individual Special Recreation Permits (ISRP)” (BLM H-2930-1, Chapt.1, I.D.).

People holding the America the Beautiful—National Parks and Federal Recreational Lands “Annual Senior Pass,” “Senior Lifetime Pass,” or “Access Pass” may be provided a 50 percent discount on some expanded amenity fees except those associated with group reservations. Veterans and “Annual Interagency Pass,” “Fourth Grade Pass,” and “Gold Star Families Park Pass” holders are not entitled to this discount. This discount also does not apply to the Fivemile Pass Recreation Area, per FLREA and BLM policy, as special area fees are ISRPs—to which the America the Beautiful Passes do not apply. FLREA was signed into law in December 2004 and provides authority for the Secretaries of the Interior and Agriculture to establish, modify, charge, and collect recreation fees for use of some Federal recreation lands and waters. The FLREA contains specific provisions addressing public involvement in the establishment of recreation fees, including a requirement that a Recreation Resource Advisory Council (RRAC) have the opportunity to make recommendations regarding establishment of such fees. The FLREA also directs the Secretaries of the Interior and Agriculture to publish six months' advance notice in the Federal Register whenever new recreation fee areas are established under their respective jurisdictions.

To meet increasing demands for services and increased maintenance costs, BLM Utah has developed recreation fee business plans. The Price and Richfield Field Office plans establish new Expanded Amenity Recreation Fees for the developed campgrounds indicated above. The Salt Lake Field Office plan establishes a new ISRP fee for a newly designated special area, to be known as the Fivemile Pass Recreation Area, with an ISRP system. In response to increasing visitation on BLM-managed public lands in Utah, the new recreation fees will be used to improve and enhance visitor services and recreation facilities at the respective fee locations and as allowed for by FLREA and BLM policy. While amenities will vary, typical amenities provided at fee sites include restroom facilities, delineated campsites, picnic tables, and fire rings. Trash collection, shade structures, access to drinking water, campground hosts, and other amenities may also be provided.

The BLM recognizes that creating new fee sites may add an additional financial burden to users of public lands, and in particular, lower income populations or those experiencing issues of equity or environmental justice. Fee sites in this proposal include a subset of the most developed or most popular and highly used recreation sites managed by these field offices. The remaining developed recreation sites and non-developed areas compose the vast majority of BLM-managed public lands in each office—areas that will continue to provide a wide variety of recreational opportunities for all members of the public, including those in underserved populations. Furthermore, by carefully developing business plans, conducting market research, and receiving the RRAC's support to collect fees at select sites, the BLM will have greater flexibility to use appropriated funding. This flexibility will help the BLM support non-fee recreation sites, partnerships, hiring initiatives, and other programs that focus on the Administration's priorities regarding equity and environmental justice. Collecting fees also helps the BLM create and maintain accessible features at developed recreation sites. These developed recreation sites serve members of the public who may have different physical or mental abilities, or those who do not have the means or desire to purchase or rent specialized equipment that is often needed for more remote, backcountry recreation experiences on public lands.

As analyzed in the field offices' business plans, the campsite fees and special area fees are consistent with other established fee sites in the regions including other BLM-administered sites and those managed by the United States Department of Agriculture—Forest Service, United States Department of the Interior—National Park Service, and Utah State Parks and Recreation.

In accordance with the BLM recreation fee program policy, the business plans explain agency management direction, the need for fee collection, and how the fees will be used at the sites. The BLM notified and involved the public at each stage of the planning process. The public was notified of a 30-day comment period on the draft campground business plans and the draft special area business plan through a BLM news release, letters mailed to local governments and major stakeholders, information on the BLM website and posted written notices at each fee site. The draft business plans were publicly available for review and comment on the BLM Utah business plan website.

Following FLREA guidelines, the Utah RRAC has reviewed and made recommendations for the new fee proposals. Fee amounts will be posted on-site and copies of the business plans will be available at the field offices, the BLM Utah State Office, and online. Before including your address, phone number, email address, or other personal identifying information in your comment, you should be aware that your entire comment—including your personal identifying information—may be made publicly available at any time. While you can ask us in your comment to withhold your personal identifying information from public review, we cannot guarantee that we will be able to do so.

Authority: 16 U.S.C. 6802 and 43 CFR 2930.

Gregory Sheehan,
State Director.

[FR Doc. 2022-14251 Filed 7-1-22; 8:45 am]

BILLING CODE 4310-HC-P